DEPARTMENT OF COMMERCE

Economic Development Administration

Submission for OMB Review; Comment Request

The Department of Commerce will submit to the Office of Management and Budget (OMB) for clearance the following proposal for collections of information under the provisions of the Paperwork Reduction Act (44 U.S.C. chapter 35).

Agency: Economic Development Administration (EDA), Department of Commerce.

Title: Semi-Annual and Annual Data Collection Instruments for EDA Grant and Cooperative Agreement Award Recipients.

OMB Control Number: 0610-0098.

Form Number(s): ED-915, ED-916, ED-917, and ED-918.

Type of Request: Revision of currently approved information collections (Forms ED-916, ED-917, and ED-918) and extension without revision of a currently approved information collection (Form ED-915).

Number of Respondents: 2,150 (revised Forms ED-916, ED-917, and ED-918: 550 semiannual respondents and 550 annual respondents; extended Form ED-915: 500 respondents).

Average Hours per Response: 2.5 to 8 hours (revised Forms ED-916, ED-917, and ED-918: 2.5 hours semiannually and 6 hours annually; extended Form ED-915: 8 hours).

Burden Hours: 10,050 hours (revised Forms ED-916, ED-917, and ED-918: 2,750 hours semiannually and 3,300 hours annually; extended Form ED-915: 4,000 hours).

Needs and Uses: EDA must comply with the Government Performance and Results Act of 1993 (Pub. L. 103-62) and the GPRA Modernization Act of 2010 (Pub. L. 111-352), which require Federal agencies to develop performance measures and report to Congress and stakeholders the results of the agency's performance. EDA's diverse portfolio of programs, the changing economy, and advances in the field of program evaluation make updates to EDA's methods for performance measurement and program evaluation necessary in order to ensure transparency, accountability, and effectiveness of EDA investments. The recently passed Foundations for Evidence-Based Policymaking Act of 2018 (Pub. L. 115-435) further emphasizes the importance of updating existing methodologies for performance measurement and program evaluation to align with evolving best practices.

EDA proposes revising Forms ED-916, ED-917, and ED-918, which are currently used to collect limited performance information on sponsored activities and resulting outcomes from the grantees receiving assistance under just three of EDA's non-infrastructure programs: Partnership Planning, University Center, and the Trade and Adjustment Assistance for Firms, respectively. The revised Forms ED-916, ED-917, and ED-918 would instead comprehensively cover all of EDA's non-infrastructure programs: Economic Adjustment Assistance (non-infrastructure projects), including new Revolving Loan Funds; Planning, including Partnership Planning; Local Technical Assistance, including University Centers; Build to Scale (formerly Regional Innovation Strategies); Research and National Technical Assistance; and Trade Adjustment Assistance for Firms. The data on program-sponsored activities and associated outcomes will be collected on semi-annual and annual bases, respectively.

The revised data collection instruments were developed through cooperative agreements with a number of leading research institutions, most notably SRI International. The methodology and applications for the instruments are described in the Innovative Metrics for Economic Development report and Toolkit for Economic Development Practitioners that are available on EDA's website at www.eda.gov/performance/.

EDA does not propose to revise the remaining fourth form under this information collection, Form ED-915, which is used to collect information on infrastructure and existing revolving loan fund (RLF) projects funded through awards from EDA's Public works and Economic Adjustment Assistance programs. Form ED-915 would instead be extended without change; however, EDA plans to revise Form ED-915 in the future to update the information collected on infrastructure projects. Note that all RLF awards made after the implementation of the revised Forms ED-916, ED-917, and ED-918 will be required to report performance information using those Forms; this requirement may be extended to all RLF awards when Form ED-915 is revised.

Affected Public: State and local governments; Development Organizations; Indian Tribes; Institutions of higher education; and Nonprofit organizations.

Frequency: Semi-annual and Annual.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Sheleen Dumas,
Department PRA Clearance Officer, Office of the Chief Information Officer, Commerce Department.

[FR Doc. 2020-03685 Filed 2-24-20; 8:45 am]

BILLING CODE 3510-34-P